DEPARTMENT OF TRANSPORTATION

Office of the Secretary

Notice of Applications for Certificates of Public Convenience and Necessity and Foreign Air Carrier Permits Filed Under Subpart B (Formerly Subpart Q) During the Week Ending November 20, 2010

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2008-0043 and DOT-OST-2010-0283.

Date Filed: November 15, 2010.

Due Date for Answers, Conforming Applications, or Motion To Modify Scope: December 6, 2010.

Description: Joint application of Iberia Líneas Aéreas de España, S.A. (“Iberia”) and Iberia's wholly owned subsidiary Iberia Líneas Aéreas de España Sociedad Anónima Operadora (“Iberia Operadora”) requesting the transfer of Iberia's foreign air carrier permit to Iberia Operadora effective immediately upon completion of the Iberia-British Airways consolidation; and transfer of related authorizations is also requested.

Renee V. Wright,
Program Manager, Docket Operations, Federal Register Liaison.

[FR Doc. 2010-31713 Filed 12-16-10; 8:45 am]

BILLING CODE 4910-9X-P